FEDERAL ELECTION COMMISSION

Sunshine Act Meetings

TIME AND DATE: Thursday, September 4, 2025, 10:00 a.m.

PLACE: Hybrid meeting: 1050 First Street NE, Washington, DC (12th Floor) and virtual.

STATUS: The September 4, 2025 Open Meeting has been canceled.

CONTACT PERSON FOR MORE INFORMATION: Myles Martin, Deputy Press Officer. Telephone: (202) 694-1221.

(Authority: Government in the Sunshine Act, 5 U.S.C. 552b)

Vicktoria J. Allen,
Deputy Secretary of the Commission.

[FR Doc. 2025-13914 Filed 7-22-25; 11:15 am]

BILLING CODE 6715-01-P